DEPARTMENT OF HEALTH AND HUMAN SERVICES

Centers for Disease Control and Prevention

[Program Announcement 00010]

Asthma Surveillance and Interventions in Hospital Emergency Departments; Notice of Availability of Funds

A. Purpose

The Centers for Disease Control and Prevention (CDC) announces the availability of fiscal year (FY) 2000 funds for a cooperative agreement program for asthma surveillance and interventions in hospital emergency departments. CDC is committed to achieving the health promotion and disease prevention objectives of “Healthy People 2010,” a national activity to reduce morbidity and mortality and improve the quality of life. This announcement is related to the focus areas of Environmental Health and Respiratory Diseases. For the conference copy of “Healthy People 2010,” visit the internet site: <http://www.health.gov/healthypeople>.

The purpose of this program is to implement and evaluate a sentinel surveillance system designed to monitor trends in and identify reasons for receiving asthma care in hospital emergency departments; and to develop and implement interventions to improve asthma care and to use the surveillance data to evaluate these interventions.

B. Eligible Applicants

Applications may be submitted by public and private nonprofit organizations; that is, universities, colleges and medical schools affiliated with non-profit hospitals. No other applications are solicited. Universities affiliated with nonprofit hospitals are targeted because they have research expertise and can coordinate with several hospitals emergency departments which will identify asthma patients, enroll them in interventions, and collect and analyze data. Universities are likely to have existing relationships with departments of health and can coordinate surveillance and intervention activities.

Note: Public Law 104-65 states that an organization described in section 501(c)(4) of the Internal Revenue Code of 1986 that engages in lobbying activities is not eligible to receive Federal funds constituting an award, grant, cooperative agreement, contract, loan or any other form.

C. Availability of Funds

Approximately $500,000 is available in FY 2000 to fund approximately two awards. It is expected that the average award will be up to $250,000 per year for a three-year period. It is expected that the awards will begin on or about September 30, 2000, and will be made for a 12-month budget period within a project period of up to three years. Funding estimates may change.

Continuation awards within an approved project period will be made on the basis of satisfactory progress as evidenced by required reports and the availability of funds.

Use of Funds

The budget should include a request for travel funds for appropriate key staff to participate in the recipient planning meeting in Atlanta.

D. Program Requirements

In conducting activities to achieve the purpose of this cooperative agreement, the recipient will be responsible for the activities under 1. (Recipient Activities) and CDC will be responsible for the activities under 2. (CDC Activities).

1. Recipient Activities

a. Collaborate with the State health department and a total of three to four emergency departments (EDs) in locations serving diverse populations (e.g., rural, urban and suburban) to plan and implement surveillance and model interventions for asthma.

b. Participate in a recipient meeting to coordinate surveillance and intervention activities across sites.

c. Develop and pilot test all data collection instruments.

d. Develop model interventions to reduce severe asthma exacerbations by improving care for asthma.

e. Analyze the data and report surveillance findings to collaborating EDs, the State health department and CDC, make presentations and prepare written manuscripts for publications.

f. Evaluate the surveillance system and the effectiveness of the interventions to reduce severe asthma exacerbations.

2. CDC Activities

a. Provide technical assistance in all stages of the project.

b. Facilitate communication/coordination among recipients to improve efficiency of activities, quality of surveillance data, and effectiveness of interventions.

c. The CDC IRB will review and approve the protocol initially and on at least an annual basis until the research project is completed.

E. Application Content

Use the information in the Program Requirements, Other Requirements, and Evaluation Criteria sections to develop the application content. Your application will be evaluated on the criteria listed, so it is important to follow them in laying out your program plan. The narrative should not exceed 30 double-spaced pages, printed on one side, with one inch margins, and unreduced font. The applications must be submitted unstapled and unbound.

Applications for the cooperative agreements should include:

1. Background and Need

a. Description of the number of asthma cases, hospitalizations, deaths and/or prevalence in the State.

b. Description of how hospital emergency department surveillance will be used to develop model interventions to improve medical and environmental management of asthma which can result in decreased asthma exacerbations.

c. Description of the applicant's collaborations with other hospitals, hospital emergency departments, health departments and organizations in conducting research or surveillance or developing interventions to reduce morbidity or mortality.

d. Description of collaborating hospital emergency departments' experience in public health initiatives, surveillance projects, research and multi-center studies, including interventions.

e. Description of the health department's experience working with hospital emergency departments or hospitals and relevant asthma prevention surveillance and prevention activities.

2. Goals and Objectives

Description of specific, measurable and time-framed goals and objectives that are consistent with the proposed theme, purpose and objectives.

3. Methods

a. Description of proposed activities to meet the stated goals and objectives. For example, describe how interventions will be developed to meet the needs of the population served.

b. Description of timeline to measure progress in meeting stated goals and objectives.

c. Description of the type of hospital (e.g., private, public, etc.) and the basis for selection of collaborating hospitals (e.g., inner city, urban, suburban and rural) for each participating ED.

d. Description of the experience of principal investigators, collaborating ED contacts, and health department contacts in:

(1) designing, implementing, administering and evaluating surveillance and interventions,

(2) prior publications, and

(3) specific authority to carry out the proposed surveillance and interventions.

e. Include letters of support for each collaborating ED and the health department.

f. Description of the roles of all staff involved in the project for each participating ED and the health department regardless of their funding source. Include their title, qualifications, experience, percentage of time each will devote to the project, as well as that portion of their salary to be paid by the grant.

g. Description of the logistics and personnel involved in data collection, reporting, analysis, evaluation, dissemination of results and publication.

h. Description of how applicant will meet the CDC policy requirements regarding the inclusion of women, ethnic and racial groups in the surveillance and interventions. This includes:

(1) The proposed plan for the inclusion of both sexes and racial and ethnic minority populations for appropriate representation.

(2) The proposed justification when representation is limited or absent.

(3) A statement as to whether the design of the surveillance and interventions is adequate to measure differences when warranted.

(4) A statement as to whether the plans for recruitment and outreach for participants include the process of establishing partnerships with community(ies) and recognition of mutual benefits.

i. Description of how surveillance findings will be shared to reduce the burden of asthma. EDs may use the findings to develop hospital policies, and health departments may develop community interventions.

j. Description of the planned interventions and how their effectiveness will be evaluated.

4. Evaluation

a. Description of a detailed plan to document progress, effectiveness, impact and outcome.

b. Description of the ability of staff to perform the evaluation.

c. Description of how evaluation findings will be used to improve the surveillance and interventions.

5. Budget Justification

Description of first year budget with future annual projections.

6. Human Subjects

Description of how human subjects will be involved and how they will be protected.

F. Submission and Deadline

Letter of Intent (LOI)

Your letter of intent should include a brief description of surveillance and interventions planned, the populations served by the participating hospital emergency departments, and State health department asthma prevention and surveillance activities.

The letter of intent must be submitted on or before July 10, 2000 to the Grants Management Specialist identified in the “Where to Obtain Additional Information” section of this announcement.

Application

Submit the original and five copies of PHS-398 (OMB Number 0925-0001). Forms are in the application kit. On or before August 10, 2000, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC.

1. Background and Need (20 Points)

a. The extent to which the applicant presents data justifying the need for asthma surveillance and interventions in terms of magnitude of the asthma problem in their area.

b. The extent to which applicant describes how hospital emergency-based surveillance for asthma will be used to develop and evaluate interventions in EDs serving different populations (e.g., inner city, urban, suburban, rural).

c. The extent to which the applicant describes current and previous experiences conducting surveillance, research and/or interventions in hospital emergency departments.

d. The extent to which applicant describes collaborating EDs' past experiences working with the State health department and past surveillance, research and/or intervention activities.

e. The extent to which applicant describes the State health department's experience collaborating with hospitals and hospital emergency departments as well as asthma surveillance and prevention activities.

2. Goals and Objectives (15 Points)

The extent to which the applicant has included goals which are relevant to the purpose of the application and feasible to be accomplished during the project period, and the extent to which these are specific and measurable.

3. Methods (50 Points)

a. The extent to which the applicant provides a detailed description of proposed activities which are likely to achieve each objective and overall program goals including designation of responsibility for each action undertaken.

b. The extent to which applicant provides a reasonable and complete schedule for implementing all activities.

c. The extent to which applicant describes the different populations served by collaborating hospital EDs and demonstrates support from a contact person within each collaborating ED who will serve as coordinator for the project.

d. The extent to which position descriptions, resumes and lines of command are appropriate for accomplishment of program goals and objectives.

e. The extent to which concurrence with the applicant's plans by all other involved parties is specific and documented, especially with regard to data collection, analysis, dissemination, development; implementation of interventions; and evaluation of surveillance and interventions.

f. The degree to which the applicant has met the CDC Policy requirements regarding the inclusion of women, ethnic, and racial groups in the proposed activities. This includes:

(1) The proposed plan for the inclusion of both sexes and racial and ethnic minority populations for appropriate representation.

(2) The proposed justification when representation is limited or absent.

(3) A statement as to whether the design of the study is adequate to measure differences when warranted.

(4) A statement as to whether the plans for recruitment and outreach for study participants include the process of establishing partnerships with communities and recognition of mutual benefits.

g. The extent to which applicant describes how surveillance findings will be shared and used to develop interventions and policies to reduce the burden of acute asthma exacerbations.

h. The extent to which applicant describes the types of interventions, including provisions for continuity of medical care, tailoring interventions to different populations, and the evaluation.

i. The extent to which applicant demonstrates a willingness to collaborate with other recipients.

4. Evaluation (15 points)

a. The extent to which the proposed evaluation system is detailed and will document program progress, effectiveness, impact and outcome.

b. The extent to which applicant documents staff availability, expertise and capacity to perform the evaluation.

c. The extent to which a feasible plan for reporting evaluation results and using evaluation information for programmatic decisions is included.

5. Budget and Justification (not scored)

The extent to which the budget is reasonable, adequately justified and consistent with the intended use of grant funds.

6. Human Subjects (not scored)

Does the application adequately address the requirements of Title 45 CFR Part 46 for the protection of human subjects?

H. Other Requirements

Technical Reporting Requirements

Provide CDC with original plus two copies of:

1. Semi-annual progress reports;

2. Financial status report, no more than 90 days after the end of the budget period; and

3. Final financial and performance reports, no more than 90 days after the end of the project period. Send all reports to the Grants Management Specialist identified in the “Where to Obtain Additional Information” section of this announcement.

The following additional requirements are applicable to this program. For a complete description of each, see Attachment 1 in the application kit.

AR-1—Human Subjects Requirements

AR-2—Requirements for Inclusion of Women and Racial and Ethnic Minorities in Research

AR-9—Paperwork Reduction Act Requirements

AR-10—Smoke-Free Workplace Requirements

AR-11—Healthy People 2010

AR-12—Lobbying Restrictions

I. Authority and Catalog of Federal Domestic Assistance Number

This program is authorized under section 301 of the Public Health Service Act, [42 U.S.C. section 241], as amended. The Catalog of Federal Domestic Assistance number is 93.283.

J. Where To Obtain Additional Information

This and other CDC announcements are available through the CDC homepage on the Internet at: http://www.cdc.gov. To receive additional written information and to request an application kit, call 1-888-GRANTS4 (1-888 472-6874). You will be asked to leave your name and address and will be instructed to identify the program announcement number (00010).

If you have questions after reviewing the contents of all the documents, business management assistance may be obtained from: Sonia Rowell, Grants Management Specialist, Grants Management Branch, Procurement and Grants Office, Announcement 00010, Centers for Disease Control and Prevention, Room 3000, 2920 Brandywine Road, Atlanta, GA 30341-4146, Telephone: (770) 488-2724, email address: svp1@cdc.gov

For program technical assistance, contact: Pamela Meyer, Epidemiologist, Air Pollution and Respiratory Health Branch, National Center for Environmental Health, Centers for Disease Control and Prevention, 1600 Clifton Road, NE, Mailstop E-17, Atlanta GA 30333, telephone: (404) 639-2545, email address: pmeyer@cdc.gov

Dated: June 7, 2000.
Henry S. Cassell III,
Acting Director, Procurement and Grants Office, Centers for Disease Control and Prevention (CDC).

[FR Doc. 00-14830 Filed 6-12-00; 8:45 am]

BILLING CODE 4163-18-P